DEPARTMENT OF LABOR

Employment and Training Administration

[TA-W-39,936]

American Smelting and Refinery Company (ASARCO), El Paso, TX; Notice of Termination of Investigation

Pursuant to section 221 of the Trade Act of 1974, an investigation was initiated on September 4, 2001 in response to a worker petition, which was filed on August 14, 2001, on behalf of workers at American Smelting and Refinery Company (ASARCO), El Paso, TX.

The petitioning group of workers is subject to an ongoing petition investigation, GRUPO Mexico Asarco, Inc., El Paso, Texas (TA-W-39,870). That petition was processed under the name. Consequently, further investigation in this case would serve no purpose, and the investigation has been terminated.

Signed at Washington, DC, this 15th day of October 2001.
Linda G. Poole,
Certifying Officer, Division of Trade Adjustment Assistance.

[FR Doc. 01-27238 Filed 10-29-01; 8:45 am]

BILLING CODE 4510-30-M